DEPARTMENT OF HEALTH AND HUMAN SERVICES

Centers for Disease Control and Prevention

42 CFR Part 71

Foreign Quarantine

AGENCY: Centers for Disease Control and Prevention (CDC), Department of Health and Human Services (HHS).

ACTION: Amendment of February 4, 2004, order to lift the embargo of birds and bird products from the Hong Kong Special Administrative Region (Hong Kong).

SUMMARY: On February 4, 2004, final rule published in the Federal Register on February 13, 2004 (69 FR 7165), the Centers for Disease Control and Prevention (CDC) issued an order immediately banning the import of all birds (Class: Aves) from specified Southeast Asian countries, subject to limited exemptions for pet birds and certain bird-derived products. CDC took this step because birds from these affected countries potentially can infect humans with avian influenza (Influenza A [(H5N1]). The February 4 order complemented a similar action taken by the U.S. Department of Agriculture (USDA), Animal and Plant Health Inspection Service (APHIS). CDC and APHIS are now lifting the embargo of birds and bird products from Hong Kong because of the documented public health and animal health measures taken by Hong Kong officials to prevent spread of the outbreak within Hong Kong and the lack of avian influenza cases in Hong Kong's domestic and wild bird populations. All other portions of the February 4, 2004 order remain in effect until further notice.

DATES: This action is effective on March 10, 2004 and will remain in effect until further notice.

FOR FURTHER INFORMATION CONTACT: Paul Arguin, National Center for Infectious Diseases, centers for Disease Control Prevention, Mailstop C-14, 1600 Clifton Rd., Atlanta, GA 30330, telephone, 404-498-1600.

SUPPLEMENTARY INFORMATION:

Background

On January 19, 2004, a single peregrine falcon was found dead near a residential development in Hong Kong. The bird carcass was submitted to public health authorities and was found to be positive for Influenza A (H5N1) by laboratory tests. On January 26, 2004, the Office of International Epizootics, an international organization that reports the occurrence of animal diseases detected worldwide, listed Hong Kong among the countries in which an outbreak of avian influenza was occurring. CDC and APHIS subsequently issued embargoes of birds and bird products imported from these countries, including Hong Kong.

The Hong Kong Health, Welfare, and Food Bureau provided information to CDC and APHIS documenting their avian influenza surveillance and prevention and control measures. According to the Secretary for Health, Welfare, and Food, on January 30, 2004, Hong Kong suspended importation of all live birds from countries affected by the outbreak. Hong Kong also has imposed a vaccination, inspection, and surveillance program for poultry farms, live poultry markets, and pet bird dealers; implemented measures to prevent spread of the virus through human traffic across the border; and required local poultry farms to implement strict biosecurity programs. In addition, according to the Secretary for Health, Welfare, and Food, there have been no additional cases of Influenza A (H5N1) in birds in Hong Kong since the positive peregrine falcon.

Given the documented absence of Influenza A (H5N1) in infected birds in Hong Kong and the strict control measures in place in Hong Kong to guard against new introduction of avian influenza, CDC is lifting the embargo of birds and bird products imported from Hong Kong. APHIS-imposed disease control measures, including a 30-day quarantine, are not affected by this order and will remain in place as directed by APHIS.

Immediate Action

Therefore, pursuant to 42 CFR 71.32(b), the February 4, 2004 order is amended to lift the embargo of birds and products derived from birds (including hatching eggs) imported from Hong Kong by removing Hong Kong from the list of countries subject to the order. All other portions of the February 4, 2004 order shall remain in effect until further notice. The February 4, 2004 order may be further amended as necessary as the situation develops, for example, to add or remove more countries subject to the embargo.

Dated: March 11, 2004.
Julie Louise Gerberding,
Director, Centers for Disease Control and Prevention.

[FR Doc. 04-6205 Filed 3-18-04; 8:45 am]

BILLING CODE 4160-17-P